DEPARTMENT OF THE INTERIOR

Minerals Management Service

Agency Information Collection Activities: Proposed Collection, Comment Request

AGENCY: Minerals Management Service (MMS), Interior.

ACTION: Notice of a revision of a currently approved information collection (OMB Control Number 1010-0121).

SUMMARY: To comply with the Paperwork Reduction Act (PRA) of 1995, we are inviting comments on a collection of information that we will submit to the Office of Management and Budget (OMB) for review and approval. The information collection request (ICR) is titled “Administrative Appeal Procedures” (formerly titled “Preliminary Statement of Issues and Fee Waiver”).

DATES: Submit written comments on or before April 29, 2002.

ADDRESSES: Submit written comments to Carol P. Shelby, Regulatory Specialist, Minerals Management Service, Minerals Revenue Management, P.O. Box 25165, MS 320B2, Denver, Colorado 80225. If you use an overnight courier service, MMS's courier address is Building 85, Room A-614, Denver Federal Center, Denver, Colorado 80225.

FOR FURTHER INFORMATION CONTACT: Carol P. Shelby, telephone (303) 231-3151, FAX (303) 231-3385.

SUPPLEMENTARY INFORMATION: Title: Administrative Appeal Procedures.

OMB Control Number: 1010-0121.

Bureau Form Number: None.

Abstract: The Department of the Interior (DOI) is responsible for matters relevant to mineral resource development on Federal and Indian lands and in the Outer Continental Shelf (OCS). The Secretary of the Interior is responsible for managing the production of minerals from Federal and Indian lands and from the OCS, collecting royalties from lessees who produce minerals, and distributing the funds collected in accordance with applicable laws. The Secretary also has an Indian trust responsibility to manage Indian lands and seek advice and information from Indian beneficiaries.

On January 12, 1999, DOI published a proposed rule in the Federal Register (64 FR 1930) to revise the appeals process. Proposed 43 CFR part 4, subpart J, would have established a new 1-step process for appeals of royalty orders. Among other actions, the proposed rule would have replaced the current regulations at 30 CFR part 290 and 43 CFR part 4, subpart E, as they relate to appeals of royalty orders. The MMS submitted an information collection request entitled “Preliminary Statement of Issues and Fee Waiver” to cover the information collection requirements in that proposed rule. The OMB approved that request on April 13, 1999, and assigned OMB Control Number 1010-0121.

The MMS received numerous negative comments about some of the provisions in the proposed rule. Consequently, on May 13, 1999, MMS published a final rule in the Federal Register (64 FR 26240) making final only those portions of the January 1999 proposed rule that received few, if any, comments. For example, rather than finalizing the substantive procedural changes in the proposed rule, the regulations in 30 CFR part 290 were separated into two subparts—Subparts A and B—and rewritten using plain English principles. Subpart A relates to appeals for the Offshore Minerals Management program, and Subpart B relates to appeals for the Royalty Management Program (currently Minerals Revenue Management). Subpart J of 43 CFR part 4 was added to the final rule to incorporate specific time frames required in the Federal Oil and Gas Royalty Simplification and Fairness Act of 1996. However, the final rule does not contain the substantive changes required to change the appeals process from a 2-step to a 1-step process as originally proposed in the proposed rule.

The MMS is revising this information collection to cover the reporting requirements contained in the final rule. These requirements are located in 30 CFR parts 250 and 290. Refer to the burden chart for identified reporting requirements and associated burden hours. Submission of the information in this collection is necessary for MMS to initiate and track appeals of disputed orders. Proprietary information that is submitted is protected, and there are no questions of a sensitive nature included in this information collection.

Frequency: On occasion.

Estimated Number and Description of Respondents: 180 Federal or Indian lessees.

Estimated Annual Reporting and Recordkeeping “Hour” Burden: 13,615 hours.

The table below is a breakdown of the burden hours by CFR section and paragraph:

30 CFR section | Requirement | Annual number of responses | Burden hours per response | Annual burden hours
250.1409(a), (b)(1) and 2 | (a) When you receive the Reviewing Officer's final decision, you have 60 days to either pay the penalty or file an appeal in accordance with 30 CFR part 290 * * * (b) If you file an appeal, you must either: (1) Submit a surety bond * * * or (2) Notify the Regional Adjudication Office * * * that you want your lease-specific/area-wide bond on file to be used as the bond for the penalty amount | 10 | 1 | 10
290.4(a) and (b)(1) | For your appeal to be filed, MMS must receive all of the following within 60 days after you receive the decision or order: (a) A written Notice of Appeal together with a copy of the decision or order you are appealing * * * (b) A nonrefundable processing fee of $150 paid with the Notice of Appeal * * * (1) Identify the order you are appealing on the check or other form of payment * * * | 10 | 10 | 100
290.7(a)(2) | The decision or order is effective during the 60-day period for filing an appeal * * * unless (2) You post a surety bond under 30 CFR 250.1409 pending the appeal * * * | (¹)
290.105 (a)(1) and (2) | (a) You may appeal an order to the Director, Minerals Management Service * * * by filing a Notice of Appeal in the office of the official issuing the order within 30 days from service of the order * * * (1) Within the same 30-day period, you must file * * * a statement of reasons or written arguments or briefs * * * (2) If you are a designee, when you file your Notice of Appeal, you must serve your Notice of Appeal on the lessees for the leases in the order you appealed | 150 | 90 | 13,500
290.106(a) | (a) If you are a lessee, * * * you may join in that appeal * * * by filing a Notice of Joinder with the office or official that issued the order | 10 | .5 | 5
Totals |  | 180 |  | 13,615
¹ Burden covered in § 250.1409.

Estimated Annual Reporting and Recordkeeping “Non-hour Cost” Burden: We have identified no “non-hour cost” burdens.

Comments: The PRA (44 U.S.C. 3501, et seq.) provides that an agency may not conduct or sponsor, and a person is not required to respond to, a collection of information unless it displays a currently valid OMB control number. Before submitting an ICR to OMB, PRA Section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. We have not identified non-hour cost burdens for this information collection. If you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information; monitoring, sampling, testing equipment; and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our ICR submission for OMB approval, including appropriate adjustments to the estimated burden. We will provide a copy of the ICR to you without charge upon request.

Public Comment Policy. We will make copies of the comments available for public review, including names and addresses of respondents, during regular business hours at our offices in Lakewood, Colorado. Individual respondents may request that we withhold their home address from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: February 8, 2002.
Milton K. Dial,
Acting Associate Director for Minerals Revenue Management.

[FR Doc. 02-4752 Filed 2-27-02; 8:45 am]

BILLING CODE 4310-MR-P